DEPARTMENT OF TRANSPORTATION

Federal Aviation Administration

Public Notice for Waiver of Aeronautical Land-Use Assurance; Delta County Airport, Escanaba, MI

AGENCY: Federal Aviation Administration, DOT.

ACTION: Notice of intent of waiver with respect to land.

SUMMARY: The Federal Aviation Administration (FAA) is considering a proposal to change a portion of airport land from aeronautical use to non-aeronautical use. There are no impacts to the airport by allowing the airport to dispose of the property. Parcel 63 was acquired April 1978. In accordance with section 47107(h) of title 49, United States Code, this notice is required to be published in the Federal Register 30 days before modifying the land-use assurance that requires the property to be used for an aeronautical purpose.

DATES: Comments must be received on or before September 4, 2002.

FOR FURTHER INFORMATION CONTACT: Mr. Jon Gilbert, Federal Aviation Administration, Great Lakes Region, Detroit Airports District Office, DET ADO-650.6, Willow Run Airport, East, 8820 Beck Road, Belleville, Michigan 48111, (734) 487-7281. Documents reflecting this FAA action may be reviewed at this same location or at Mr. Richard Severson (Airport Manager), Delta County Airport, 3300 Airport Road, Escanaba, Michigan 49829.

SUPPLEMENTARY INFORMATION: Following is a legal description of the property:

The Northwest ¼ Southwest ¼ of Section 1, T38N, R23W, City of Escanaba, Delta County, Michigan.

This notice announces that the FAA intends to authorize the disposal of the subject airport property at Delta County Airport, Escanaba, Michigan.

Approval does not constitute a commitment by the FAA to financially assist in the disposal of the subject airport property nor a determination that all measures covered by the program are eligible for grant-in-aid funding from the FAA. The disposition of proceeds from the disposal of the airport property will be in accordance with the FAA's Policy and Procedures Concerning the Use of Airport Revenue.

Issued in Belleville, Michigan, July 25, 2002.
Arlene B. Draper,
Acting Manager, Detroit Airports District Office, Great Lakes Region.

[FR Doc. 02-19680 Filed 8-2-02; 8:45 am]

BILLING CODE 4910-13-M